ENVIRONMENTAL PROTECTION AGENCY

[FRL-7239-3]

Agency Information Collection Request Activities: Submission for OMB Review; Collection and Comment Request for the Outer Continental Shelf Air Regulation

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: Outer Continental Shelf Air Regulations, ICR number 1601.05, and OMB Control Number 2060-0249, expiration date: June 30, 2002. The ICR describes the nature of the information collection and its expected burden and cost; where appropriate, it includes the actual data collection instrument.

DATES: Comments must be submitted on or before July 29, 2002.

ADDRESSES: Send comments, referencing EPA ICR No. 1601.05 and OMB Control No. 2060-0249, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-Mail at auby.susan@epa.gov or download off the Internet at http://www.epa.gov/icr and refer to EPA ICR No. 1601.05. For technical questions about the ICR contact David Sanders at EPA by phone at (919) 541-3356.

SUPPLEMENTARY INFORMATION: Title: Outer Continental Shelf Air Regulation, OMB Control Number 2060-0249, EPA ICR Number 1601.05, expiration date June 30, 2002. This is a request for extension of a currently approved collection.

Abstract: Section 328 (Air Pollution from Outer Continental Shelf Activities) of the Clean Air Act (CAA) as amended in 1990, gives EPA responsibility for regulating air pollution from OCS sources located offshore of the States along the Pacific, Arctic, and Atlantic Coasts, and along the eastern Gulf of Mexico coast (off the coast of Florida). The U.S. Department of Interior's Minerals Management Service (MMS) retains the responsibility for regulating air pollution from sources located in the western Gulf of Mexico.

There are five types of reporting requirements for the industrial respondent: Notice of intent (NOI) to construct, Preconstruction permit application, Compliance testing, Operating permit application, and Record keeping and reporting tasks. The owner or operator must submit not more than 18 months prior to submitting a permit application, a NOI to construct to the EPA Administrator through the EPA Regional Office and the air pollution control agency of the nearest onshore area (NOA) and adjacent onshore areas. All major sources must comply with all applicable preconstruction permit requirements including the need to submit an application for a preconstruction review permit. The owner or operator of an OCS source is responsible for developing or collecting all relevant information not otherwise available to the permit reviewing authority. Within 6 months of the start of operations, each new or modified major source is required to complete initial compliance tests to demonstrate compliance with control equipment design and performance specifications in its preconstruction permit. In addition, annual compliance tests are required for existing sources in California. A second type of permit which an owner or operator of major sources must obtain is the operating permit. The operating permits contain information on the ownership and location of a source, equipment and fuel parameters which cause emissions, the amount and type of emissions from each source, control techniques used to control emissions, and record keeping and reporting requirements to ensure that control techniques are properly implemented. Sources, in addition are required to monitor emissions and operating parameters to ensure compliance with operating requirements.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on November 6, 2001; no comments were received.

Burden Statement: The annual public reporting and recordkeeping burden for this collection of information is estimated to average 410 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of existing or new or modified stationary sources associated with the recovery of oil and gas resources.

Estimated Number of Respondents: 49.

Frequency of Response: Annually.

Estimated Total Annual Hour Burden: 33,649.

Estimated Total Annualized Capital, O&M Cost Burden: $147,793.

Send comments on the Agency's need for this information, the accuracy of the provided burden estimates, and any suggested methods for minimizing respondent burden, including through the use of automated collection techniques to the addresses listed above. Please refer to EPA ICR No. 1601.05 and OMB Control No. 2060-0249 in any correspondence.

Dated: June 19, 2002.
Oscar Morales,
Director, Collection Strategies Division.

[FR Doc. 02-16358 Filed 6-27-02; 8:45 am]

BILLING CODE 6560-50-P